DEPARTMENT OF DEFENSE

Department of the Army

Availability of Exclusive, Partially-Exclusive, or Non-Exclusive Licensing of U.S. Army Patent for “Flameless Tracer Ammunition”

AGENCY: Department of the Army, DoD.

ACTION: Notice.

SUMMARY: The Department of the Army announces the availability of exclusive, or non-exclusive, licensing of U.S. Army Patent 6,497,181 issued on December 24, 2002 entitled “Flameless Tracer Ammunition” by Leon Manole, Stewart Gilman, and Ernest Logsdon, Jr., of the U.S. Army TACOM-ARDEC, Picatinny Arsenal, NJ, based upon patent application serial no. 10/095,342 filed March 11, 2002 claiming priority date December 4, 2001 of provisional application 60/337,751; Army docket no. 2000-005. Any license granted shall comply with 35 U.S.C. 209 and 37 CFR part 404.

FOR FURTHER INFORMATION CONTACT: Mr. John Moran, Chief, Intellectual Property Law Division, AMSTA-AR-GCL, U.S. Army TACOM-ARDEC, Picatinny Arsenal, NJ 07806-5000, e-mail: jfmoran@pica.army.mil telephone (973) 724-6590.

SUPPLEMENTARY INFORMATION: New tracer is non-burning (thus addressing a safety concern), as well as environmentally friendly. This new approach for tracer ammunition uses the novel application of chemiluminescent chemicals in compartments designed to activate an intense light emitting chemical reaction capable of being seen, day or night, upon firing for tracing the trajectory path of each tracer round in flight. A further advantage is that upon impact, the glowing continues from the same chemicals marking the landing on the target. Accordingly the results of the firing can be readily seen, evaluated and acted upon. Further advantages of this new flameless tracer ammunition are associated with its routine handling and lifecycle characteristics compared to conventional tracer ammo as well as avoiding the clean up after use of conventional pyrotechnic chemicals from existing tracer ammo. These advantages provide clear benefits for both military and non-military organizations, such as police, National Guard, private and commercial rifle ranges, which commonly conduct training practices and tactical exercises. The patented invention covers applications of flameless tracers ranging in size from small munitions to large caliber cannon projectiles.

Luz D. Ortiz,
Army Federal Register Liaison Officer.

[FR Doc. 03-13600 Filed 5-30-03; 8:45 am]

BILLING CODE 3710-08-M